LEGAL SERVICES CORPORATION

Notice of Proposed Revisions for the LSC Grant Assurances for Calendar Year 2014 Funding

AGENCY: Legal Services Corporation.

ACTION: Notice of proposed changes and request for comments.

SUMMARY: The Legal Services Corporation (“LSC”) intends to revise the LSC Grant Assurances for calendar year 2014 funding since the last publication of the LSC Grant Assurances for 2013 funding and is soliciting public comment on the proposed changes. The proposed revisions affect Grant Assurances 13 and 17. The proposed LSC grant assurances for calendar year 2014 funding, in redline format indicating the proposed changes to the current “LSC 2013 Grant Assurances,” are at http://grants.lsc.gov/sites/default/files/Grants/ReferenceMaterials/2014-GrantAssurances-Proposed.pdf.

DATES: All comments and recommendations must be received on or before the close of business on May 31, 2013.

ADDRESSES: Written comments may be submitted by mail, email, or fax to Reginald J. Haley, Office of Program Performance, Legal Services Corporation, 3333 K Street NW., Washington, DC 20007; LSCGrantAssurances@lsc.gov; or (202) 337-6813 (fax). Comments may also be submitted online at http://www.lsc.gov/contact-us.

FOR FURTHER INFORMATION CONTACT: Reginald J. Haley, haleyr@lsc.gov, (202) 295-1545.

SUPPLEMENTARY INFORMATION: The purpose of the LSC grant assurances is to delineate the rights and responsibilities of LSC and the recipient pursuant to the provisions of the grant. As a grant making agency created by Congress, LSC has grant assurances that are intended to reiterate and/or clarify the responsibilities and obligations already applicable through existing law and regulations and/or obligate the recipient to comply with specific additional requirements in order to effectuate the purposes of the Legal Services Corporation Act, as amended, and other applicable law. A summary of the changes proposed follows.

Grant Assurance #13 bars recipients from taking or threatening to take disciplinary action against employees or volunteers for cooperating with or releasing appropriate information to LSC. The grant assurance requires each grantee to notify its staff and volunteers that it will not take retaliatory actions for any appropriate cooperation with LSC or other entity authorized to receive such cooperation. The proposed change to the grant assurance requires recipients to provide the notification to staff and volunteers in writing.

Grant Assurance #17 requires LSC recipients to maintain all records pertaining to the grant and supporting documents sufficient for LSC to audit those records. The proposed change to the grant assurance requires recipients to follow the record retention requirements provided in Appendix II of the Accounting Guide for LSC Recipients (2010 Edition).

The proposed LSC grant assurances for calendar year 2014 funding, in redline format indicating the proposed changes to the current “LSC 2013 Grant Assurances,” are at http://grants.lsc.gov/sites/default/files/Grants/ReferenceMaterials/2014-GrantAssurances-Proposed.pdf. Interested parties are requested to provide comments concerning the proposed grant assurances for 2014 grant awards within a period of thirty (30) days from the date of publication of this notice.

Dated: April 25, 2013.
Lynn A. Jennings,
Vice President for Grants Management.

[FR Doc. 2013-10243 Filed 4-30-13; 8:45 am]

BILLING CODE 7050-01-P